DEPARTMENT OF THE INTERIOR

National Park Service

[NPS-WASO-NAGPRA-NPS0038939; PPWOCRADN0-PCU00RP14.R50000]

Notice of Inventory Completion: Eastern California Museum, Independence, CA

AGENCY: National Park Service, Interior.

ACTION: Notice.

SUMMARY: In accordance with the Native American Graves Protection and Repatriation Act (NAGPRA), the Eastern California Museum has completed an inventory of human remains and associated funerary objects and has determined that there is no lineal descendant and no Indian Tribe or Native Hawaiian organization with cultural affiliation.

DATES: Upon request, repatriation of the human remains and associated funerary objects in this notice may occur on or after November 21, 2024.

ADDRESSES: Shawn Lum, Eastern California Museum, 155 N Grant St., Independence, CA 93526, telephone (760) 878-0258, email ecmuseum@inyocounty.us.

SUPPLEMENTARY INFORMATION: This notice is published as part of the National Park Service's administrative responsibilities under NAGPRA. The determinations in this notice are the sole responsibility of the Eastern California Museum, and additional information on the determinations in this notice, including the results of consultation, can be found in its inventory or related records. The National Park Service is not responsible for the determinations in this notice.

Abstract of Information Available

Human remains representing, at least, one individual have been identified. The two associated funerary objects are pieces of shell and obsidian flakes. These items were donated to the museum by the Lindsey family of Lone Pine, CA on 4-14-1977 and they were assigned accession #1977.103 (ID #NL3).

Consultation

Invitations to consult were sent to the Big Pine Paiute Tribe of the Owens Valley; Bishop Paiute Tribe; Fort Independence Indian Community of Paiute Indians of the Fort Independence Reservation, California; Lone Pine Paiute-Shoshone Tribe; and the Timbisha Shoshone Tribe.

Cultural Affiliation

The following types of information about the cultural affiliation of the human remains and associated funerary objects in this notice are available: geographical. The information, including the results of consultation, identified:

1. No earlier group connected to the human remains or associated funerary objects.

2. Lone Pine Paiute-Shoshone Tribe as an Indian Tribe or Native Hawaiian organization connected to the human remains or associated funerary objects.

3. No relationship of shared group identity between the earlier group and the Indian Tribe or Native Hawaiian organization that can be reasonably traced through time.

Determinations

The Eastern California Museum has determined that:

• The human remains described in this notice represent the physical remains of one individual of Native American ancestry.

• The two objects described in this notice are reasonably believed to have been placed intentionally with or near individual human remains at the time of death or later as part of the death rite or ceremony.

• No known lineal descendant who can trace ancestry to the human remains and associated funerary objects in this notice has been identified.

• No Indian Tribe or Native Hawaiian organization with cultural affiliation to the human remains and associated funerary objects in this notice has been clearly or reasonably identified.

Requests for Repatriation

Written requests for repatriation of the human remains and associated funerary objects in this notice must be sent to the authorized representative identified in this notice under ADDRESSES. Requests for repatriation may be submitted by any lineal descendant, Indian Tribe, or Native Hawaiian organization who shows, by a preponderance of the evidence, that the requestor is a lineal descendant or an Indian Tribe or Native Hawaiian organization with cultural affiliation.

Upon request, repatriation of the human remains and associated funerary objects described in this notice may occur on or after November 21, 2024. If competing requests for repatriation are received, the Eastern California Museum must determine the most appropriate requestor prior to repatriation. Requests for joint repatriation of the human remains and associated funerary objects are considered a single request and not competing requests. The Eastern California Museum is responsible for sending a copy of this notice to any consulting lineal descendant, Indian Tribe, or Native Hawaiian organization.

Authority: Native American Graves Protection and Repatriation Act, 25 U.S.C. 3003, and the implementing regulations, 43 CFR 10.10.

Dated: October 11, 2024.
Melanie O'Brien,
Manager, National NAGPRA Program.

[FR Doc. 2024-24428 Filed 10-21-24; 8:45 am]

BILLING CODE 4312-52-P